DEPARTMENT OF COMMERCE

National Oceanic and Atmospheric Administration

[RTID 0648-XA851]

Marine Mammals; File No. 25462

AGENCY: National Marine Fisheries Service (NMFS), National Oceanic and Atmospheric Administration (NOAA), Commerce.

ACTION: Notice; receipt of application.

SUMMARY: Notice is hereby given that America Films, Ltd., Embassy House, Queens Avenue, Bristol, BS8 1SB, United Kingdom, (Responsible Party: Tom Stephens), has applied in due form for a permit to conduct commercial or educational photography on gray whales (Eschrichtius robustus).

DATES: Written, telefaxed, or email comments must be received on or before March 8, 2021.

ADDRESSES: These documents are available upon written request via email to NMFS.Pr1Comments@noaa.gov.

Written comments on this application should be submitted via email to NMFS.Pr1Comments@noaa.gov. Please include File No. 25462 in the subject line of the email comment.

Those individuals requesting a public hearing should submit a written request via email to NMFS.Pr1Comments@noaa.gov. The request should set forth the specific reasons why a hearing on this application would be appropriate.

FOR FURTHER INFORMATION CONTACT: Amy Hapeman or Jordan Rutland, (301) 427-8401.

SUPPLEMENTARY INFORMATION: The subject permit is requested under the authority of the Marine Mammal Protection Act of 1972, as amended (MMPA; 16 U.S.C. 1361 et seq.), the regulations governing the taking and importing of marine mammals (50 CFR part 216).

The applicant proposes to film migrating gray whales in California waters for an episode of a television series celebrating the wildlife of North America. Filmmakers may target up to 204 whales in April 2021 for filming topside from the vessel and from an unmanned aircraft system. Up to 68 California sea lions (Zalophus californianus), 68 harbor seals (Phoca vitulina richardii), 210 short-beaked common dolphins (Delphinus delphis), 210 bottlenose dolphins (Tursiops truncatus), and 210 Pacific white-side dolphins (Lagenorhynchus obliquidens) could be incidentally harassed during filming. The project is scheduled for broadcast globally in 2022 on the National Geographic Channel and streamed on the Disney+ platform. To allow for scheduling changes, the permit would be valid until May 31, 2021.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: February 2, 2021.
Julia Marie Harrison,
Chief, Permits and Conservation Division, Office of Protected Resources, National Marine Fisheries Service.

[FR Doc. 2021-02431 Filed 2-4-21; 8:45 am]

BILLING CODE 3510-22-P